INTERNATIONAL TRADE COMMISSION

[Investigation No. 337-TA-1205]

Certain Completion Drill Bits and Products Containing the Same; Notice of a Commission Determination Not To Review an Initial Determination Terminating the Investigation in Its Entirety Based on a Settlement Agreement; Termination of the Investigation

AGENCY: U.S. International Trade Commission.

ACTION: Notice.

SUMMARY: Notice is hereby given that the U.S. International Trade Commission (“Commission”) has determined not to review an initial determination (“ID”) (Order No. 18) of the presiding administrative law judge (“ALJ”), terminating this investigation in its entirety based on a settlement agreement. This investigation is terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 7, 2020, based on a complaint filed by Varel International Industries, LLC of Carrollton, Texas (“Varel”). 85 FR 40686-87 (July 7, 2020). The complaint, as supplemented, alleges violations of section 337 of the Tariff Act of 1930, as amended, 19 U.S.C. 1337, in the importation into the United States, the sale for importation, or the sale within the United States after importation of certain completion drill bits and products containing the same by reason of infringement of certain claims of U.S. Patent No. 10,538,970. Id. The complaint further alleges that a domestic industry exists. Id. The Commission's notice of investigation named a single respondent, Taurex Drill Bits, LLC of Norman, Oklahoma. Id. at 40687. The Office of Unfair Import Investigations is not participating in the investigation. Id.

On October 13, 2020, the ALJ issued Order No. 18, the subject ID, terminating the investigation in its entirety based on a settlement agreement. The ID found that the motion complies with 19 CFR 210.21(b), that no extraordinary circumstances prevent the termination of the investigation, and that terminating the investigation is not contrary to the public interest. No petitions for review of the subject ID were filed.

The Commission has determined not to review the subject ID.

The investigation is hereby terminated in its entirety.

The Commission vote for this determination took place on October 26, 2020.

The authority for the Commission's determination is contained in section 337 of the Tariff Act of 1930, as amended (19 U.S.C. 1337), and in Part 210 of the Commission's Rules of Practice and Procedure (19 CFR part 210).

By order of the Commission.
Issued: October 26, 2020.
Lisa Barton,
Secretary to the Commission.

[FR Doc. 2020-24029 Filed 10-29-20; 8:45 am]

BILLING CODE 7020-02-P